ENVIRONMENTAL PROTECTION AGENCY

[OPP-66294; FRL-6802-1]

Notice of Receipt of Requests to Voluntarily Cancel Certain Pesticide Registrations

AGENCY: Environmental Protection Agency (EPA).

ACTION: Notice.

SUMMARY: In accordance with section 6(f)(1) of the Federal Insecticide, Fungicide and Rodenticide Act (FIFRA), as amended, EPA is issuing a notice of receipt of requests by registrants to voluntarily cancel certain pesticide registrations.

DATES: Unless a request is withdrawn by, March 25, 2002, unless indicated otherwise, orders will be issued canceling all of these registrations.

FOR FURTHER INFORMATION CONTACT: By mail: James A. Hollins, Office of Pesticide Programs (7502C), Environmental Protection Agency, Ariel Rios Building, 1200 Pennsylvania Avenue, N.W., Washington, DC 20460. Office location for commercial courier delivery, telephone number and e-mail address: Rm. 232, Crystal Mall #2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document, and certain other related documents that might be available electronically, from the EPA Internet Home Page at http://www.epa.gov/. To access this document, on the Home Page select “Laws and Regulations,” “Regulations and Proposed Rules,“ and then look up the entry for this document under the “Federal Register —Environmental Documents.” You can also go directly to the Federal Register listings at http://www.epa.gov/fedrgstr/.

2. In person. Contact James A. Hollins at 1921 Jefferson Davis Highway, Crystal Mall #2, Rm. 224, Arlington, VA, telephone number (703) 305-5761. Available from 7:30 a.m. to 4:45 p.m., Monday thru Friday, excluding legal holidays.

II. What Action is the Agency Taking?

This notice announces receipt by the Agency of applications from registrants to cancel some 33 pesticide products registered under section 3 or 24(c) of FIFRA. These registrations are listed in sequence by registration number (or company number and 24(c) number) in the following Table 1.

Table 1. — Registrations With Pending Requests for Cancellation
Registration No. | Product Name | Chemical Name
000100 WA-94-0020 | Supracide 25WP Insecticide-Miticide | O,O-Dimethyl phosphorodithioate, S-ester with 4-(mercaptomethyl)-2-
000241-00328 | Pursuit/Dual Herbicide | 2-Chloro-N-(2-ethyl-6-methylphenyl)-N-(2-methoxy-1-methylphenyl)acetamide (9CI)
|  | (+/-)-2-(4,5-Dihydro-4-methyl-4-(1-methylethyl)-5-oxo-1H-imadazol-2-
000264-00464 | Mocap Plus 4-2 EC Nematicide - Insecticide | O,O-Diethyl S-(2-(ethylthio)ethyl) phosphorodithioate
|  | O-Ethyl S,S-dipropyl phosphorodithioate
000264-00475 | Mocap Pcnb 3-10 Granular Nematicide - Insecticide | O-Ethyl S,S-dipropyl phosphorodithioate
|  | Pentachloronitrobenzene
000264-00521 | Holdem Brand Granular Nematicide Insecticide | O-Ethyl S,S-dipropyl phosphorodithioate
|  | O,O-Diethyl S-((ethylthio)methyl) phosphorodithioate
000264-00541 | Mocap Gel Nematicide-Insecticide | O-Ethyl S,S-dipropyl phosphorodithioate
000279 LA-98-0010 | Firstline GT Plus Termite Bait Station | 1-Octanesulfonamide, N-ethyl-1,1,2,2,3,3,4,4,5,5,6,6,7,7,8,8,8-heptadecafluoro-
000279 WA-90-0023 | Thiodan 3 E.C. | 6,7,8,9,10-Hexachloro-1,5,5a,6,9,9a-hexahydro-6,9-methano-2,4,3-benzodioxathiepin-3-oxide
000499-00460 | Pro-Control Roach Bait | 1-Octanesulfonamide, N-ethyl-1,1,2,2,3,3,4,4,5,5,6,6,7,7,8,8,8-heptadecafluoro-
000572-00224 | Rockland Residual Fly Spray D | O,O-Dimethyl S-((methylcarbamoyl)methyl) phosphorodithioate
000769-00874 | Pratt Benomyl 50W Systemic Fungicide | Methyl 1-(butylcarbamoyl)-2-benzimidazolecarbamate
000769-00921 | Science Benomyl 50W Systemic Fungicide | Methyl 1-(butylcarbamoyl)-2-benzimidazolecarbamate
000802-00352 | Lilly/Miller Granular Noxall Vegetation Killer | Sodium metaborate (NaBO2)
|  | 3-(3,4-Dichlorophenyl)-1,1-dimethylurea
|  | Sodium chlorate
001812-00284 | Griffin Fluometuron Technical | 1,1-Dimethyl-3-(α,α,α-trifluoro-m-tolyl)urea (Note: α=alpha)
001812-00327 | GX-071 Technical | 1-Octanesulfonamide, N-ethyl-1,1,2,2,3,3,4,4,5,5,6,6,7,7,8,8,8-heptadecafluoro-
004822-00355 | Raid Max Roach Bait | 1-Octanesulfonamide, N-ethyl-1,1,2,2,3,3,4,4,5,5,6,6,7,7,8,8,8-heptadecafluoro-
004822-00457 | Sulfotine | Lithium (perfluorooctane)sulfonate
004822-00458 | Raid TVK | Lithium (perfluorooctane)sulfonate
008660-00022 | Vertagreen Crabgrass Preventer | Dimethyl tetrachloroterephthalate
008660-00033 | Vertagreen Professional Use with Dacthal | Dimethyl tetrachloroterephthalate
008660-00035 | Concentrated Ronstar for Turf | 2-tert-Butyl-4-(2,4-dichloro-5-isopropoxyphenyl-delta2-1,3,4-oxadiazoline-5-one
008660-00062 | Garden Weed Preventer (Contains Dacthal) | Dimethyl tetrachloroterephthalate
008660-00098 | Turf Pro Dacthal 5G | Dimethyl tetrachloroterephthalate
008660-00100 | Turf Pro Dacthal 5G Plus | Dimethyl tetrachloroterephthalate
008660-00189 | Holiday Crabgrass Preventer Pre-Emergence | Dimethyl tetrachloroterephthalate
009086-00009 | Revenge Bug Strip | 2,2-Dichlorovinyl dimethyl phosphate
009086-00011 | Roxide DDVP Technical | 2,2-Dichlorovinyl dimethyl phosphate
009367-00050 | Residual Insecticide | o-Isopropoxyphenyl methylcarbamate
051036 ND-98-0006 | Chlorpyrifos 4E-Wheat | O,O-Diethyl O-(3,5,6-trichloro-2-pyridyl) phosphorothioate
062719-00082 | Tandem | 2-(3,5-Dichlorophenyl)-2-(2,2,2-trichloroethyl)oxirane
062719 FL-92-0010 | Lorsban 50W Insecticide In Water Soluble Packets | O,O-Diethyl O-(3,5,6-trichloro-2-pyridyl) phosphorothioate
063935 FL-91-0003 | Ortho Bolero 8EC | S-((4-Chlorophenyl)methyl) N,N-diethylthiocarbamate
064864-00036 | Last-Bite Snail & Slug Killer Pellets | 2,4,6,8-Tetramethyl-1,3,5,7-tetroxocane

Unless a request is withdrawn by the registrant within 180 days (unless indicated otherwise) of publication of this notice, orders will be issued canceling all of these registrations. Users of these pesticides or anyone else desiring the retention of a registration should contact the applicable registrant during this comment period. Registrations 009086-00011, Roxide Technical DDVP and 009086-00009, Roxide Revenge Bug Strip are registrations for which the items and conditions for cancellation and disposition of existing stocks were previously agreed to between EPA and Roxide International, Inc., in the May 31, 2001, Consent Agreement and Final Order (Docket No. FIFRA-HQ-2001-0003). Thus, EPA intends to grant Roxide's request for voluntary cancellation of these registrations 30 days after publication of this notice. After the registrations are cancelled EPA will permit Roxide to sell and distribute their products until December 31, 2001.

The following Table 2, includes the names and addresses of record for all registrants of the products in Table 1, in sequence by EPA company number.

Table 2. — Registrants Requesting Voluntary Cancellation
EPA Company No. | Company Name and Address
000100 | Syngenta Crop Protection, Inc., Box 18300, Greensboro, NC 27419.
000241 | BASF Corp., Box 400, Princeton, NJ 08543.
000264 | Aventis Cropscience USA LP, 2 T.W. Alexander Drive, Box 12014, Research Triangle Park, NC 27709.
000279 | FMC Corp., Agricultural Products Group, 1735 Market St, Philadelphia, PA 19103.
000499 | Whitmire Micro-Gen Research Laboratories Inc., 3568 Tree Ct Industrial Blvd, St Louis, MO 63122.
000572 | Rockland Corp., 686 Passaic Ave., Box 809, West Caldwell, NJ 07007.
000769 | The Platinum Group, Agent For: Verdant Brands, Inc., 9855 W. 78th St, Eden Prairie, MN 55344.
000802 | Lilly Miller Brands, Agent For: Central Garden & Pet, 16201 SE 98th, Clackamas, OR 97015.
001812 | Griffin L.L.C., Box 1847, Valdosta, GA 31603.
004822 | S.C. Johnson & Son Inc., 1525 Howe Street, Racine, WI 53403.
008660 | Pursell Industries, Inc., 1500 Urban Center Parkway, Suite 520, Birmingham, AL 35242.
009086 | Roxide International Inc., Box 249, New Rochelle, NY 10802.
009367 | Theochem Laboratories, Inc., 7373 Rowlett Park Drive, Tampa, FL 33610.
051036 | Micro-Flo Co., LLC, Box 772099, Memphis, TN 38117.
062719 | Dow Agrosciences LLC, 9330 Zionsville Rd., 308/2E225, Indianapolis, IN 46268.
063935 | Third Party Registrations, Inc., Box 140097, Orlando, FL 32814.
064864 | Pace International LLC, 1011 Western Ave., Suite 505, Seattle, WA 98104.
EPA has requested a 30-day comment period for registration 008660-00035.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Loss of Active Ingredients

Unless the requests for cancellations are withdrawn, two pesticide active ingredients will no longer appear in any registered products. Those who are concerned about the potential loss of these active ingredients for pesticidal use are encouraged to work directly with the registrant(s) to explore the possibility of their withdrawing the request for cancellation. The active ingredients are listed in the following Table 3, with the EPA company and CAS number.

Table 3. — Active Ingredient Disappearing as a Result of Registrants' Request to Cancel
CAS No. | Chemical Name | EPA Company No.
29457-72-5 | Lithium (Perfluorooctane sulfonate) | 004822
58138-08-2 | Dichlorophenyl-2-(2,2,2-trichloroethyl)oxirane | 062719

V. Procedures for Withdrawal of Request

Registrants who choose to withdraw a request for cancellation must submit such withdrawal in writing to James A. Hollins, at the address given above, postmarked before March 25, 2002, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in Federal Register of June 26, 1991 (56 FR 29362) (FRL-3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: September 10, 2001.
Richard D. Schmitt,
Associate Director, Information Resources and Services Division, Office of Pesticide Programs.

[FR Doc. 01-24058 Filed 9-25-01; 8:45 a.m.]

BILLING CODE 6560-50-S